DEPARTMENT OF HEALTH AND HUMAN SERVICES

National Institutes of Health

Center for Scientific Review; Amended Notice of Meeting

Notice is hereby given of a change in the meeting of the Center for Scientific Review Special Emphasis Panel; Fellowships: Oncology, April 03, 2025, 08:00 a.m. to April 04, 2025, 06:00 p.m., National Institutes of Health, Rockledge II, 6701 Rockledge Drive, Bethesda, MD 20892 which was published in the Federal Register on March 13, 2025, 90 FR 11993.

This meeting is being amended to change the contact person from Nywana Sizemore, Ph.D. to Adriana Stoica, Ph.D., Center for Scientific Review, National Institutes of Health, 6701 Rockledge Drive, Bethesda, MD 20892, Stoicaa2@mail.nih.gov, (240)-276-6368. The meeting dates are also being amended to May 01, 2025, 10:00 a.m. to May 02, 2025, 06:00 p.m. The meeting is closed to the public.

Dated: April 1, 2025.
Sterlyn H. Gibson,
Program Specialist, Office of Federal Advisory Committee Policy.

[FR Doc. 2025-05898 Filed 4-4-25; 8:45 am]

BILLING CODE 4140-01-P